DEPARTMENT OF COMMERCE

National Oceanic and Atmospheric Administration

Proposed Information Collection; Comment Request; Mail Survey To Collect Economic Data From Federal Gulf of Mexico and South Atlantic For-Hire Permit Holders

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 16, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Christopher Liese, Industry Economist, SEFSC, NMFS, 75 Virginia Beach Drive, Miami FL 33149, (305) 365-4109 or Christopher.Liese@noaa.gov.

SUPPLEMENTARY INFORMATION:

I. Abstract

This request is for a new information collection.

The National Oceanic and Atmospheric Administration's (NOAA) Fisheries, Southeast Fisheries Science Center, proposes to collect very basic socioeconomic data from federally-permitted for-hire operators in the Gulf of Mexico and South Atlantic fisheries, using a mail sample survey. The National Marine Fisheries Service (NMFS) does not systematically collect information on for-hire trip prices and trip costs in the Southeast. The population consists of those for-hire operators who possess a federal for-hire permit for dolphin-wahoo, coastal migratory pelagics, snapper-grouper, or reef fish species in the South Atlantic or Gulf of Mexico. Each year we will sample approximately a third of the population. The two-page survey will be designed to collect basic data on trip revenues and trip costs as well as other related information. These data are needed to conduct socioeconomic analyses in support of management of the for-hire fishing industry and to satisfy legal requirements. The data will be used to assess how fishermen will be impacted by and respond to federal regulation likely to be considered by fishery managers.

II. Method of Collection

The information will be collected on paper using a mail survey.

III. Data

OMB Control Number: 0648-xxxx.

Form Number(s): None.

Type of Review: Regular (request for a new information collection).

Affected Public: Business or other for-profit organizations; individuals or households.

Estimated Number of Respondents: 1000.

Estimated Time per Response: 12 minutes.

Estimated Total Annual Burden Hours: 200 hours.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 14, 2015.
Sarah Brabson,
NOAA PRA Clearance Officer.

[FR Doc. 2015-23336 Filed 9-16-15; 8:45 am]

BILLING CODE 3510-22-P